POSTAL SERVICE

39 CFR Part 20

International Product and Price Changes

AGENCY: Postal Service™.

ACTION: Final rule.

SUMMARY: The Postal Service is revising Mailing Standards of the United States Postal Service, International Mail Manual (IMM®), to reflect the prices, product features, and classification changes to Competitive Services, as established by the Governors of the Postal Service.

DATES: Effective January 27, 2013.

FOR FURTHER INFORMATION CONTACT: Rick Klutts at 813-877-0372.

SUPPLEMENTARY INFORMATION: New prices are available under Docket Number CP2013-3 on the Postal Regulatory Commission's Web site at http://www.prc.gov.

This final rule describes the international price and classification changes and the corresponding mailing standards changes for the following Competitive Services:

• Global Express Guaranteed® (GXG®).

• Express Mail International®.

• Priority Mail International®.

• First-Class Package International Service™.

• International Priority Airmail™ (IPA®).

• International Surface Air Lift® (ISAL®).

• Direct Sacks of Printed Matter to One Addressee (M-bags).

• International Extra Services:

○ Certificate of Mailing.

○ Registered Mail™ Service.

○ Return Receipt Service.

○ Pickup On Demand® Service.

• International Money Transfer Services:

○ International Postal Money Orders and Money Order Inquiry Fee.

○ Sure Money® (DineroSeguro®).

New prices are located on the Postal Explorer® Web site at http://pe.usps.com.

Global Express Guaranteed

Global Express Guaranteed (GXG) is an international expedited delivery service provided through an alliance with FedEx Express®. The price increase for GXG service averages 9.6 percent. The Commercial Base™ price and Commercial Plus™ price for customers that prepare and pay for GXG shipments via permit imprint, online at USPS.com®, or as registered end-users using an authorized PC Postage® vendor will remain a variable discount (based on the item's weight and price group) of up to 12 percent below the retail price for Commercial Base price and up to 17 percent below the retail price for Commercial Plus price. The price for GXG insurance is unchanged. Finally, customers tendering at least $100,000 in revenue per year for not only GXG, Express Mail International, Priority Mail International, but also First-Class Package International Service may request authorization for commercial plus discounts.

Express Mail International

Express Mail International service provides reliable, high-speed service to approximately 190 countries with a money-back, date-certain delivery guarantee to select destinations. The price increase for Express Mail International service averages 13.2 percent. The Commercial Base price and Commercial Plus price for customers that prepare and pay for Express Mail International shipments via permit imprint, online at USPS.com, or as registered end-users using an authorized PC Postage vendor will remain a variable discount (based on the item's weight and price group) of up to 10 percent below the retail price for Commercial Base price and up to 16 percent below the retail price for Commercial Plus price. Customers tendering at least $100,000 in revenue per year for not only GXG, Express Mail International, Priority Mail International, but also First-Class Package International Service may request authorization for commercial plus discounts.

In addition, the following product features and classification changes are made:

Express Mail International Insurance

To provide additional value, we are increasing the limit for the included merchandise insurance for Express Mail International shipments from $100 to $200. Merchandise insurance insures against loss, damage, or missing contents. The document reconstruction insurance limit remains at $100. Finally, the price for Express Mail International merchandise insurance for items over $200 is unchanged.

Flat Rate Envelopes

For consistency, we are updating the IMM to reflect a 4-pound maximum weight limit for all Express Mail International Flat Rate Envelopes to match the Priority Mail Flat Rate Envelopes. Previously the weight limit was 20 pounds.

Priority Mail International

Priority Mail International (PMI) offers economical prices for reliable delivery of documents and merchandise. The price increase for Priority Mail International service averages 15.1 percent. The Commercial Base price and Commercial Plus price for customers that prepare and pay for Priority Mail International items via permit imprint, online at USPS.com, or as registered end-users using an authorized PC Postage vendor will remain a variable discount (based on the item's weight and price group) of up to 9 percent below the retail price for Commercial Base price and up to 14 percent below the retail price for Commercial Plus price. The price for Priority Mail International insurance is unchanged. Finally, customers tendering at least $100,000 in revenue per year for not only GXG, Express Mail International, Priority Mail International, but also First-Class Package International Service may request authorization for Commercial Plus discounts.

Electronic USPS Delivery Confirmation International

The Postal Service is introducing Electronic USPS® Delivery Confirmation International for the Priority Mail International Flat Rate Envelopes and Small Flat Rate Priced Boxes. Electronic USPS Delivery Confirmation International is optionally provided to select destinations at no charge and is only available electronically by using USPS-approved PC Postage vendors, Click-N-Ship®, Click-N-Ship for Business™, Webtools, and Global Shipping Software (GSS). Tracking information includes the date and time an article was delivered and, if delivery was attempted but not successful, the date and time of the delivery attempt. It is designed to improve customer service and strengthen the business-to-customer commerce channel. The sender can check delivery status by going to USPS.com and clicking on the “track and confirm” feature. Although the initial offering will be limited to Canada, we are anticipating adding additional countries in the spring of 2013.

First-Class Package International Service

The Postal Service successfully filed a petition to transfer our existing First-Class Mail International packages (small packets) and rolls from the market dominant product list to the competitive product list. The rebranded competitive product will be identified as First-Class Package International Service™. With this change and similar to our other competitive international mailing offerings, there will be 3 price tiers—the retail price, Commercial Base price, and the Commercial Plus price. To qualify for Commercial Plus pricing, customers must commit to tender $100,000 per year of Global Express Guaranteed, Express Mail International, Priority Mail International, or First-Class Package International Service items.

The Commercial Base price and Commercial Plus price for customers that prepare and pay for First-Class Package International Service shipments via permit imprint, online at USPS.com, or as registered end-users using an authorized PC Postage vendor will receive a variable discount (based on the item's weight and price group) of up to 10 percent below the retail price for Commercial Base price and up to 15 percent below the retail price for Commercial Plus price. The same mailing requirements that applied to First-Class Mail International packages will apply to First-Class Package International Service. For example, the price groups remain the same, the value of the item may not exceed $400, the item may not exceed 4 pounds, and the item always requires customs declaration, PS Form 2976, Customs Declaration CN 22—Sender's Declaration. Finally, updates are made to approximately 65 IMM Individual Country Listings to include “First-Class Package International Service” where only “First-Class Mail International” is referenced before this change.

Electronic USPS Delivery Confirmation International

The Postal Service is introducing Electronic USPS Delivery Confirmation International for First-Class Package International Service packages (small packets). Electronic USPS Delivery Confirmation International is optionally provided at no charge to select destinations and is only available electronically by using USPS-approved PC Postage vendors, Click-N-Ship®, Click-N-Ship for Business™, Webtools, and Global Shipping Software (GSS). Tracking information includes the date and time an article was delivered and, if delivery was attempted but not successful, the date and time of the delivery attempt. It is designed to improve customer service and strengthen the business-to-customer commerce channel. The sender can check delivery status by going to USPS.com and clicking on the “track and confirm” feature. Although the initial offering will be limited to Canada, we are anticipating adding additional countries in the spring of 2013.

International Priority Airmail

International Priority Airmail (IPA) service, including IPA M-bags, is a commercial service designed for business mailers for volume mailings of First-Class Mail International postcards, letters, large envelopes (flats), and First-Class Package International Service packages (small packets) weighing up to 4 pounds. The overall price increase for IPA service averages 1.9 percent.

International Surface Air Lift

International Surface Air Lift (ISAL) service, including ISAL M-Bags, is a commercial service, which provides dispatch and transportation for mailers of volume mailings of all First-Class Mail International postcards, letters, large envelopes (flats), and First-Class Package International Service packages (small packets) weighing up to 4 pounds. The overall price increase for ISAL service averages 4.4 percent.

Direct Sacks of Printed Matter to One Addressee (M-Bags)

Airmail M-bags are direct sacks of printed matter sent to a single foreign addressee at a single address. The price increase for Airmail M-bags averages 7.3 percent.

International Extra Services and International Money Transfer Services

Depending on country destination and mail type, customers may add a variety of extra services to their outbound shipments. While several extra services have had modest increases, due to the elimination of the $0.85 fee for Express Mail International Insurance for the $100.01 to $200 limit, the overall increase for competitive extra services averages zero percent.

For our competitive offerings, we revised the prices for the following international extra services:

Express Mail Merchandise Insurance

To provide additional value, we are increasing the limit for the included merchandise insurance for Express Mail International shipments from $100 to $200. The price for Express Mail International merchandise insurance for items over $200 is unchanged.

Certificate of Mailing

Most of the prices for certificate of mailing service will increase. In addition, the Postal Service is adding the flexibility for mailers who pay for postage with a permit imprint, to now pay the fee using the same permit imprint account. Previously, the only option to pay the fee was for mailers to apply ordinary stamps, meter stamps, or PC Postage to PS Form 3877, Firm Mailing Book for Accountable Mail, or Form 3606, Certificate of Bulk Mailing.

Registered Mail

The price for Registered Mail will increase.

Return Receipt

The price for Return Receipt will increase.

Restricted Delivery

Currently, restricted delivery is only available on the Priority Mail International Flat Rate Envelopes and Small Flat Rate Priced Boxes using Registered Mail service. Due to low quantity demand by customers, the Postal Service will discontinue outbound international restricted delivery service effective January 27, 2013.

International Money Transfer Services

The price for International Money Transfer Services (includes International Postal Money Orders and Money Order Inquiry Fee, and Sure Money (DineroSeguro), will increase.

The Postal Service hereby adopts the following changes to Mailing Standards of the United States Postal Service, International Mail Manual (IMM), which is incorporated by reference in the Code of Federal Regulations. See 39 CFR 20.1.

List of Subjects in 39 CFR Part 20

Foreign relations, International postal services.

Accordingly, 39 CFR Part 20 is amended as follows:

PART 20—[AMENDED]

1. The authority citation for 39 CFR Part 20 continues to read as follows:

Authority: 5 U.S.C. 552(a); 13 U.S.C. 301-307; 18 U.S.C. 1692-1737; 39 U.S.C. 101, 401, 403, 404, 407, 414, 416, 3001-3011, 3201-3219, 3403-3406, 3621, 3622, 3626, 3632, 3633, and 5001.

2. Revise the following sections of Mailing Standards of the United States Postal Service, International Mail Manual (IMM), as follows:

Mailing Standards of the United States Postal Service, International Mail Manual (IMM)

* * * * *

1 International Mail Services

* * * * *

120 Preparation for Mailing

* * * * *

123 Customs Forms and Online Shipping Labels

* * * * *

123.5 Place of Mailing

* * * Refer to the specific IMM part below for determination:

* * * * *

[Insert new item e to read as follows:]

e. First-Class Package International Service mailpieces—see 255.

* * * * *

123.6 Required Usage

123.61 Conditions

* * * * *

Exhibit 123.61 Customs Declaration Form Usage by Mail Category

[Revise the entry for “First-Class Mail International Packages (Small Packets), Including IPA Items and ISAL Items (Maximum weight limit: 4 pounds)” to read as follows. In addition, revise the footnote to read as follows:]

Type of item | Declared value, weight, or physical characteristic | Required PS form | Comment
* * * * * * *
First-Class Package International Service Packages (Small Packets), Including IPA Items and ISAL Items (Maximum weight limit: 4 pounds)
All First-Class Package International Service packages (small packets), as defined in 251.2, regardless of contents | $400 or less | 2976 | Merchandise is permitted unless prohibited by the destination country.
| Over $400 | Prohibited | Items over $400 must be mailed using Global Express Guaranteed service, Express Mail International service, or Priority Mail International service (other than Flat Rate Envelopes or Small Flat Rate Priced Boxes).
* * * * * * *
* Qualifying items must meet the physical characteristics in 241.235. For example, the following items do not meet this requirement and must bear a PS Form 2976: 1) Priority Mail International Flat Rate Envelopes that are not uniformly thick; 2) First-Class Package International Service items; and 3) IPA and ISAL packages (small packets) containing only documents.

* * * * *

140 International Mail Categories

141 Definitions

* * * * *

[Insert a new 141.6 to read as follows:]

141.6 First-Class Package International Service

First-Class Package International Service is a generic term for mailpieces that are package-size (small packets) that weigh 4 pounds or less, and that have a value of $400 or less. First-Class Package International Service items may contain any parcel-size (small packet) that is not prohibited by the destination country. At the sender's option, extra services, such as registry and return receipt, may be added on a country-specific basis.

* * * * *

150 Postage

* * * * *

152 Payment Methods

* * * * *

152.4 Permit Imprint

152.41 Conditions for Use

* * * This postage payment method may be used for postage and extra service fees for the following services:

[Redesignate current items 152.41e and f as new f and g, and insert new item e to read as follows:]

e. First-Class Package International Service

* * * * *

152.44 Required Format

* * * * *

Exhibit 152.44 Indicia Formats

* * * * *

[Between the sections titled “FIRST-CLASS MAIL INTERNATIONAL” and “INTERNATIONAL PRIORITY AIRMAIL (IPA),” insert a new section titled “FIRST-CLASS PACKAGE INTERNATIONAL SERVICE.” This new section will have the same seven entries that appear in the First-Class Mail International section except that the entries in this new section will substitute the words “FIRST-CLASS PACKAGE INTERNATIONAL SERVICE”]

* * * * *

2 Conditions for Mailing

210 Global Express Guaranteed

* * * * *

213 Prices and Postage Payment Methods

* * * * *

213.6 Commercial Prices

* * * * *

213.62 Commercial Plus Prices

* * * * *

213.622 Commercial Plus Pricing—Eligibility

[Revise 213.622 to read as follows:]

To qualify for commercial plus pricing, customers must agree to all terms and conditions in a standardized agreement with the Postal Service and tender at least $100,000 per year of international shipping products. For this purpose, “international shipping products” includes any combination of Global Express Guaranteed, Express Mail International, Priority Mail International, or First-Class Package International Service items.

* * * * *

220 Express Mail International

221 Description and Physical Characteristic

* * * * *

221.3 Express Mail International Flat Rate Envelopes

[Revise the second sentence to read as follows:]

* * * The maximum weight is 4 pounds.* * *

* * * * *

222 Eligibility

* * * * *

222.7 Express Mail International Insurance and Indemnity

222.71 Merchandise Insurance

[Revise the first sentence to read as follows:]

Express Mail International shipments containing merchandise are insured against loss, damage, or missing contents up to $200 at no additional charge.* * *

* * * * *

222.8 Extra Services—Merchandise Insurance

[Revise the first sentence to read as follows:]

Additional merchandise insurance coverage above $200, up to a maximum of $5,000, may be purchased at the sender's option. * * *

* * * * *

223 Prices and Postage Payment Methods

223.1 Prices

* * * * *

223.13 Commercial Plus Prices

* * * * *

223.131 Commercial Plus Pricing—Eligibility

[Revise 223.131 to read as follows:]

To qualify for commercial plus pricing, customers must agree to all terms and conditions in a standardized agreement with the Postal Service and tender at least $100,000 per year of international shipping products. For this purpose, “international shipping products” includes any combination of Global Express Guaranteed, Express Mail International, Priority Mail International, or First-Class Package International Service items.

* * * * *

230 Priority Mail International

* * * * *

232 Eligibility

232.1 Priority Mail International Flat Rate Envelopes and Small Flat Rate Priced Boxes

[Revise the first sentence to 232.1 to read as follows:]

All items that may be sent with First-Class Mail International service (see 241) and First-Class Package International Service (see 251) may be sent in Priority Mail International Flat Rate Envelopes or Small Flat Rate Priced Boxes provided the contents are mailable, they fit securely in the envelope or box, and they are entirely confined within the container with the provided adhesive as the means of closure.* * *

[Insert new 232.11 to read as follows:]

232.11 Electronic USPS Delivery Confirmation International

232.111 Description

Electronic USPS Delivery Confirmation® International service, abbreviated—E-USPS DELCON INTL—is optionally available for the Priority Mail International Flat Rate Envelopes (except for the Gift Card Flat Rate Envelope) and all Small Flat Rate Priced Boxes to specific destination countries at no charge. Tracking information includes the date and time an article was delivered and, if delivery was attempted but not successful, the date and time of the delivery attempt. The sender can check delivery status by going to USPS.com and clicking on the “Track and Confirm.”

232.112 Availability

Electronic USPS Delivery Confirmation International (currently only available to Canada) is available only electronically by using USPS-approved PC Postage vendors, Click-N-Ship, Click-N-Ship for Business, Webtools, and Global Shipping Software (GSS), or other USPS-approved software.

232.113 Customs Label and Marking

Mailers must use an electronically generated PS Form 2976 that includes the iconic “Post Exprès” logo (globe and chevron design)—see Exhibit 232.113.

Exhibit 232.113 Customs Label and Marking

232.114 Additional Standards

The following additional standards apply to Electronic USPS Delivery Confirmation International service:

a. Electronic USPS Delivery Confirmation International service may not be combined with any other international extra services.

b. Electronic USPS Delivery Confirmation International service is not available for the Priority Mail International Gift Card Flat Rate Envelope.

c. No refunds, inquiries, or claims, are offered, and indemnity is not provided.

d. Customers will not be able to obtain tracking information by contacting the U.S. Postal Service by telephone.

232.115 Postage Payment Methods and Price Eligibility

Mailers may pay for Electronic USPS Delivery Confirmation International items by using postage validation imprinter (PVI) labels, postage meter imprints, USPS-approved PC Postage, Click-N-Ship postage, or permit imprint.

232.116 Price Eligibility

Only items paid with USPS-approved PC Postage (including Click-N-Ship) or permit imprint are eligible for the applicable Commercial Base or Commercial Plus price for the postage portion of the mailpiece. Electronically generated customs forms that are not generated with PC Postage or a permit imprint, (i.e., Click-N-Ship for Business, Webtools) must pay the retail price. Postage may be applied by customer meter, or the item may be taken to a Post Office for acceptance and payment.

* * * * *

232.9 Extra Services

* * * * *

[Delete 232.95, “Restricted Delivery”]

* * * * *

233 Prices and Postage Payment Methods

* * * * *

233.1 Prices

* * * * *

233.13 Commercial Plus Prices

* * * * *

233.131 Commercial Plus Pricing—Eligibility

[Revise 233.131 to read as follows:]

To qualify for commercial plus pricing, customers must agree to all terms and conditions in a standardized agreement with the Postal Service and tender at least $100,000 per year of international shipping products. For this purpose, “international shipping products” includes any combination of Global Express Guaranteed, Express Mail International, Priority Mail International, or First-Class Package International Service items.

* * * * *

[Insert part 250, currently titled “(Reserved),” to read as follows (through 255.2):]

250 First-Class Package International Service

251 Description and Physical Characteristics

251.1 General

The First-Class Package International Service™ classification encompasses the categories of international mail that before May 14, 2007, were categorized as small packets.

251.2 Physical Characteristics

251.21 Physical Standards—Packages (Small Packets)

251.211 Weight Limit

The weight limit for a First-Class Package International Service package (small packet) is 4 pounds.

251.212 Dimensions—Other Than Rolls

Packages (small packets) other than rolls must be within the following dimensions:

a. Maximum length: 24 inches. Length is the longest dimension.

b. Maximum length, height, and depth (thickness) combined: 36 inches.

c. Minimum size: Large enough to accommodate the postage, address, customs form, and other required elements on the address side.

251.213 Dimensions—Rolls

Rolls must be within the following dimensions:

a. Minimum length: 4 inches.

b. Minimum length plus twice the diameter combined: 6¾ inches.

c. Maximum length: 36 inches.

d. Maximum length plus twice the diameter combined: 42 inches.

251.214 Quality

Packages (small packets) must be constructed to be strong enough to withstand normal handling.

252 Eligibility

252.1 Content Eligibility

Subject to applicable weight and size limits, any article that is otherwise acceptable and not prohibited by the Postal Service or the country of destination may be mailed at the First-Class Package International Service price. The maximum value cannot exceed $400. Items exceeding $400 must be mailed using Global Express Guaranteed service, Express Mail International service, or Priority Mail International service (other than the Priority Mail International Flat Rate Envelopes or Small Flat Rate Priced Boxes).

252.2 Electronic USPS Delivery Confirmation International

252.21 Description

Electronic USPS Delivery Confirmation® International service, abbreviated—E-USPS DELCON INTL—is optionally available for First-Class Package International items to specific destination countries at no charge. Tracking information includes the date and time an article was delivered and, if delivery was attempted but not successful, the date and time of the delivery attempt. The sender can check delivery status by going to USPS.com and clicking on the “Track and Confirm.”

252.22 Availability

Electronic USPS Delivery Confirmation International (currently only available to Canada) is available only electronically by using USPS-approved PC Postage vendors, Click-N-Ship, Click-N-Ship for Business, Webtools, and Global Shipping Software (GSS), or other USPS-approved software.

252.23 Customs Label and Marking

Mailers must use an electronically generated PS Form 2976 that includes the iconic “Post Exprès” logo (globe and chevron design)—see Exhibit 252.23.

Exhibit 252.23 Customs Label and Marking

252.24 Additional Standards

The following additional standards apply when using Electronic USPS Delivery Confirmation International:

e. Electronic USPS Delivery Confirmation International service may not be combined with any other international extra services.

f. No refunds, inquiries, or claims, are offered, and indemnity is not provided.

g. Customers will not be able to obtain tracking information by contacting the U.S. Postal Service by telephone.

254.25 Postage Payment Methods

Mailers may pay for Electronic USPS Delivery Confirmation International items by using postage validation imprinter (PVI) labels, postage meter imprint, USPS-approved PC Postage, Click-N-Ship postage, or permit imprint.

254.26 Price Eligibility

Only items paid with USPS-approved PC Postage (including Click-N-Ship) or permit imprint are eligible for the applicable Commercial Base or Commercial Plus price for the postage portion of the mailpiece. Electronically generated customs forms that are not generated with PC Postage or a permit imprint, (i.e., Click-N-Ship for Business, Webtools) must pay the retail price. Postage may be applied by a customer meter, or the item may be taken to a Post Office for acceptance and payment.

252.3 Customs Forms Required

First-Class Package International Service items always require a fully completed PS Form 2976, Customs Declaration CN 22—Sender's Declaration.

252.4 Mail Sealed Against Inspection

First-Class Package International Service mailpieces are sealed against inspection.

252.5 Extra Services

252.51 Certificate of Mailing

Certificate of mailing service is available for purchase for First-Class Package International Service items.

252.52 Registered Mail Service

Registered Mail service is available for purchase for First-Class Package International Service items, including such items mailed as free matter for the blind or physically handicapped.

252.53 Return Receipt Service

For First-Class Package International Service items, return receipt service is available for purchase only for items that use Registered Mail service to certain destinations—see the Individual Country Listings for availability and 340 for preparation procedures.

253 Prices and Postage Payment Methods

253.1 Prices

253.11 Prices and Price Application—General

First-Class Package International Service packages (small packets) are charged postage for each addressed piece according to its weight and price group. For prices, see Notice 123, Price List.

253.12 Price Computation

First-Class Package International Service prices are charged per ounce or fraction thereof; any fraction of an ounce is rounded up to the next whole ounce. For example, if a piece weighs 1.2 ounces, the weight (postage) increment is 2 ounces. The minimum postage per addressed piece is that for a piece weighing 1 ounce.

253.13 Destinating Countries and Price Groups

See the Individual Country Listings to determine the country-specific price group for First-Class Package International Service. For postage prices, see Notice 123, Price List.

253.14 Commercial Base Prices

First-Class Package International Service Commercial Base prices are generally less than First-Class Package International Service retail prices when postage is paid using a permit imprint under 253.222 or the online methods described in 253.231. See Notice 123, Price List, for the applicable price.

253.15 Commercial Plus Prices

For approved mailers, First-Class Package International Service Commercial Plus prices are generally less than First-Class Package International Service Commercial Base prices when postage is paid by a registered end-user of a USPS-approved PC Postage product, or a permit imprint under 253.222. See Notice 123, Price List, for the applicable price.

253.151 Commercial Plus Pricing—Eligibility

To qualify for Commercial Plus pricing, customers must agree to all terms and conditions in a standardized agreement with the Postal Service and tender at least $100,000 per year of international shipping products. For this purpose, “international shipping products” includes any combination of Global Express Guaranteed, Express Mail International, Priority Mail International, or First-Class Package International Service items.

253.152 Commercial Plus Pricing—Approval

Mailers meeting the minimum revenue thresholds under 253.151 must complete an agreement with the Postal Service by contacting their account manager, or USPS Global Business via email at globalcpp@usps.gov, for a commitment agreement form or for additional information.

253.2 Postage Payment Methods

253.21 General

First-Class Package International Service items may be paid with postage stamps, postage validation imprinter (PVI) labels, postage meter stamps, information-based indicia (IBI), PC Postage service, or permit imprint.

253.22 Permit Imprint

253.221 Permit Imprint—General

First-Class Package International Service shipments paid with a permit imprint through an advance deposit account are permitted only when requirements for Commercial Base prices or Commercial Plus prices (see 253.222) are followed. Postage paid with a permit imprint is subject to the general conditions in IMM 152.4 and in DMM 604 and 705.

253.222 Permit Imprint—Commercial Base or Commercial Plus Prices

First-Class Package International Service Commercial Base and Commercial Plus prices are generally less than First-Class Package International Service retail prices when postage is paid using a permit imprint. See Notice 123, Price List, for the applicable price. The Commercial Base price applies only to the postage portion of First-Class Package International Service prices. In addition, customers must meet the following requirements:

a. Use USPS-produced Global Shipping Software (GSS) or other USPS-approved software listed at https://ribbs.usps.gov/index.cfm?page=internationalvendors that electronically transmits Customs-related functions. (To request information about either of these software solutions, send an email to globalbusiness-sales@usps.gov.)

b. Pay for postage with a permit imprint through an advance deposit account.

c. Meet manifesting and permit imprint requirements under IMM 152.4 and DMM 604 and the manifesting requirements under DMM 705.

253.23 Online Postage Payment Method

253.231 Online Prices

For selected destination countries, First-Class Package International Service items qualify for discounted prices (equal to the Commercial Base price or Commercial Plus price) when mailers use one of the following online shipping methods:

a. Commercial Base Price: Click-N-Ship service; or registered end-users of an authorized PC Postage vendor.

b. Commercial Plus Price: Registered end-users of an authorized PC Postage vendor.

The Commercial Base or Commercial Plus price is automatically applied to each shipment when using one of the above postage payment methods. The discount applies only to the postage portion of the First-Class Package International Service price. It does not apply to any other charges or fees, such as Registered Mail service or shipments made under a customized agreement.

253.232 Marking Requirements

First-Class Package International Service mailpieces claiming the Commercial Base or Commercial Plus price paid with PC Postage must bear the appropriate price marking, printed on the piece or produced as part of the PC Postage indicia. Mailers must place the applicable marking directly above, directly below, or to the left of the postage using one of the following formats:

a. Commercial Base Price, Commercial Base Pricing, or ComBasPrice.

b. Commercial Plus Price, Commercial Plus Pricing, or ComPlsPrice.

253.233 Determining Online Prices

For each addressed mailpiece, refer to Notice 123, Price List, for the applicable Commercial Base or Commercial Plus price.

253.3 Official Mail

253.31 Mailings by Federal Agencies

First-Class Package International Service shipments that are entered by federal agencies and departments are subject to the same standards under 250 as First-Class Package International Service shipments that are entered by nongovernmental entities.

253.32 Postal Service Mailings

First-Class Package International Service shipments that are entered by U.S. Postal Service entities are subject to the same standards under 250 as First-Class Package International Service shipments that are entered by nongovernmental entities, except that U.S. Postal Service mailings must bear the G-10 permit indicia that are prescribed for all Postal Service official mail. See 142.2.

254 Mail Preparation

254.1 Addressing

First-Class Package International Service items are subject to the addressing requirements in 122.

254.2 Marking

The following markings apply to First-Class Package International Service items:

a. First-Class Package International Service packages (small packets) and rolls—which because of their size, shape, or configuration might be mistaken for another category of international mail—should be marked “LETTER-POST” on the address side of the mailpiece.

b. First-Class Package International Service items that qualify as free matter for the blind or physically handicapped must bear the marking “Free Matter for the Blind or Physically Handicapped” in the upper-right corner of the address side of the mailpiece. See 274.2.

254.3 Sealing

Unregistered First-Class Package International Service items may be sealed at the sender's option. Mailpieces not sealed by conventional means, such as taping the open flaps for small packets, must be closed in such a manner as to prevent the contents from falling out or being damaged during postal handling and transport. First-Class Package International Service items that use Registered Mail service must be sealed. (See 334.4 for sealing requirements for Registered Mail service.)

254.4 Packaging

The following packaging methods may be used for First-Class Package International Service items:

a. Mailers must package mailpieces to withstand normal transit and handling without content or package breakage, injury to Postal Service employees, or damage to other mail or Postal Service equipment.

b. Mailers must package their contents to prevent their deterioration.

c. First-Class Package International Service items are admissible in boxes, cartons, tubes, or other types of containers that are commonly used to transmit shipments that are in package form.

255 Mail Entry and Deposit

255.1 Place of Mailing

255.11 Items Eligible for Deposit or Pickup

First-Class Package International Service items bearing a computer-generated customs form with customs data that has been electronically transmitted (e.g., using Click-N-Ship service, an authorized PC Postage vendor, or the USPS Web Tools system) may be deposited through any of the following methods, provided postage is paid by a means other than the use of postage stamps:

a. In a private mailbox bearing a return address that matches the address at the point of pick up, when the customer or business is known to reside or do business at that location.

b. At a Postal Service retail counter.

c. Into a Postal Service lobby drop.

d. In a collection box.

e. At a Contract Postal Unit (CPU).

f. At a USPS-Approved Shipper location.

255.12 Items Not Eligible for Deposit or Pickup

Customers must present the following First-Class Package International Service items requiring a customs form to an employee at a Post Office retail service counter. Deposit and pickup methods listed in 255.11 are prohibited. The Postal Service will return improperly presented items to the sender for proper entry and acceptance.

a. Any item bearing a customs form and paid with only postage stamps.

b. Any item bearing a handwritten customs form.

c. Any item bearing a customs form that was not computer-generated.

d. Any item for which the customs data was not electronically transmitted.

255.2 Items Paid With a Permit Imprint

Mailers who enter volume mailings paid with a permit imprint under 253.22 must enter such items through a business mail entry unit (BMEU) or, when authorized by the district BMEU manager, through a detached mail unit (DMU) at a mailer's plant.

* * * * *

260 Direct Sacks of Printed Matter to One Addressee (M-bags)

* * * * *

265 Extra Services

[Revise 265 to read as follows:]

Certificate of mailing is available. Return receipts, Registered Mail service, and insurance are not available with M-bags.

* * * * *

290 Commercial Services

* * * * *

292 International Priority Airmail (IPA) Service

* * * * *

292.1 Description

292.11 General

[Revise the first two sentences of 292.11 to read as follows:]

International Priority Airmail™ (IPA®) service is available for volume mailings of all First-Class Mail International postcards, letters and large envelopes (flats), and for volume mailings of First-Class Package International Service packages (small packets). The sender must prepare mailpieces in accordance with the shape-based requirements of First-Class Mail International service (see 240), First-Class Package International Service items (see 250) and the requirements of this subchapter. * * *

* * * * *

292.2 Eligibility

292.21 Qualifying Mailpieces

[Revise 292.21 in its entirety to read as follows:]

To qualify for IPA service, a mailpiece must meet the First-Class Mail International characteristics as defined in 141.5, or the First-Class Package International Service characteristics as defined in 141.6. Mailpieces do not have to be of the same size and weight to qualify. Any item sent with IPA service must conform to the weight and size limits for First-Class Mail International postcards, letters, or large envelopes (flats) as described in 240, or for First-Class Package International Service packages (small packets) as described in 250.

* * * * *

292.3 Prices and Postage Payment Methods

* * * * *

292.33 Postage Payment Methods

* * * * *

292.332 Postage Meter

Payments made by postage meter are subject to the following standards:

* * * * *

[Revise item 292.332e to read as follows:]

e. Unmarked Pieces. Unmarked pieces lacking the postage endorsement are subject to the applicable First-Class Mail International or First-Class Package International Service, single-piece price.

* * * * *

292.333 Precanceled Stamps

Payments made by precanceled stamps are subject to the following standards:

* * * * *

[Revise item e to read as follows:]

e. Unmarked Pieces. Unmarked pieces lacking the postage endorsement are subject to the applicable First-Class Mail International or First-Class Package International Service, single-piece price.

* * * * *

292.4 Mail Preparation

* * * * *

292.43 Sealing and Packaging

[Revise 292.43 in its entirety to read as follows:]

Mailers must meet the following sealing and packaging standards for IPA mail:

a. Mixed Country and Worldwide Nonpresort Price. All mailpieces entered at the mixed country and worldwide nonpresort price must meet the sealing and packaging methods for First-Class Mail International service under IMM 244.3 and 244.4 and for First-Class Package International Service under IMM 254.3 and 254.4.

b. Direct Country Price. Letter-size mailpieces entered at the direct country price must meet one of the following requirements:

1. The sealing and packaging methods for First-Class Mail International service under IMM 244.3 and 244.4.

2. The physical standards of a machinable letter under DMM 201.3.

Flat-size mailpieces entered at the direct country price must meet the sealing and packaging methods for First-Class Mail International service under IMM 244.3 and 244.4. Small packets entered at the direct country price must meet the sealing and packaging methods for First-Class Package International Service under IMM 254.3 and 254.4.

* * * * *

293 International Surface Air Lift (ISAL) Service

* * * * *

293.1 Description

293.11 General

[Revise the first two sentences of 293.11 to read as follows:]

International Surface Air Lift® (ISAL®) service is a bulk mailing system that provides fast, economical international delivery of First-Class Mail International and First-Class Package International Service items. The price is lower than for First-Class Mail International service and First-Class Package International Service. * * *

* * * * *

293.2 Eligibility

293.21 Qualifying Mailpieces

[Revise 292.21 in its entirety to read as follows:]

To qualify for ISAL service, a mailpiece must meet the First-Class Mail International characteristics as defined in 141.5, or the First-Class Package International Service characteristics as defined in 141.6. Mailpieces do not have to be of the same size and weight to qualify. Any item sent with ISAL service must conform to the weight and size limits for First-Class Mail International postcards, letters, or large envelopes (flats) as described in 240, or for First-Class Package International Service packages (small packets) as described in 250.

* * * * *

293.3 Prices and Postage Payment Methods

* * * * *

293.33 Postage Payment Methods

* * * * *

293.332 Postage Meter

Payments made by postage meter are subject to the following standards:

* * * * *

[Revise item 293.332e to read as follows:]

e. Unmarked Pieces. Unmarked pieces lacking the postage endorsement are subject to the applicable First-Class Mail International or First-Class Package International Service, single-piece price.

* * * * *

293.333 Precanceled Stamps

Payments made by precanceled stamps are subject to the following standards:

* * * * *

[Revise item 293.333e to read as follows:]

e. Unmarked Pieces. Unmarked pieces lacking the postage endorsement are subject to the applicable First-Class Mail International or First-Class Package International Service, single-piece price.

* * * * *

293.4 Marking

* * * * *

293.43 Sealing and Packaging

[Revise 293.43 in its entirety to read as follows:]

Mailers must meet the following sealing and packaging standards for ISAL mail:

a. Mixed Country and Worldwide Nonpresort Price. All mailpieces entered at the mixed country and worldwide nonpresort price must meet the sealing and packaging methods for First-Class Mail International service under IMM 244.3 and 244.4 and for First-Class Package International Service under IMM 254.3 and 254.4.

b. Direct Country Price. Letter-size mailpieces entered at the direct country price must meet one of the following requirements:

1. The sealing and packaging methods for First-Class Mail International service under IMM 244.3 and 244.4.

2. The physical standards of a machinable letter under DMM 201.3.

Flat-size mailpieces entered at the direct country price must meet the sealing and packaging methods for First-Class Mail International service under IMM 244.3 and 244.4. Small packets entered at the direct country price must meet the sealing and packaging methods for First-Class Package International Service under IMM 254.3 and 254.4.

* * * * *

3 Extra Services

* * * * *

320 Insurance

* * * * *

322 Express Mail International Insurance

322.1 Description

[Revise 322.1 to read as follows:]

Express Mail International shipments containing merchandise are insured against loss, damage, or missing contents up to $200 at no additional charge. Express Mail International shipments containing only nonnegotiable documents are insured against loss, damage, or missing contents up to $100 at no additional charge.

* * * * *

322.3 Additional Coverage and Fees

[Revise the first sentence to read as follows:]

Additional merchandise insurance coverage above $200—up to the maximum amount allowed by the country (see the Individual Country Listings) but never to exceed $5,000—may be purchased at the sender's option. * * *

* * * * *

370 International Money Transfer Services

371 International Money Orders

371.11 General

[Revise the last sentence of 371.11 to read as follows:]

* * * International postal money orders may be sent by Express Mail International service, Priority Mail International service, First-Class Mail International, or First-Class Package International Service.

* * * * *

372 Sure Money (DineroSeguro)

* * * * *

372.3 Fees

[Revise 372.3 to read as follows:]

Fees for Sure Money service are as follows:

Transaction type | Minimum amount | Maximum amount | Fee
Sales | $0.01 | $750.00 | $11.00
| 750.01 | 1,500.00 | 16.50
| 1,500.01 | 2,000.00 | 22.00
Refunds | 0.01 | 2,000.00 | 26.00
Change of Payee | 0.01 | 2,000.00 | 12.00

* * * * *

Individual Country Listings

* * * * *

[For each country that includes a specific Prohibition, Restriction, or Observation regarding “First-Class Mail International”, revise the reference to “First-Class Mail International or First-Class Package International Service”.]

* * * * *

Express Mail International (220)

* * * * *

Express Mail International—Flat Rate Envelopes and Flat Rate Boxes (220)

* * * * *

[For each country that offers Express Mail International Flat Rate Envelopes and Flat Rate Boxes, revise the text to read as follows:]

Flat Rate Envelopes: The maximum weight is 4 pounds.

Flat Rate Boxes: The maximum weight is 20 pounds.

Refer to Notice 123, Price List, for the applicable retail, commercial base, or commercial plus price.

Insurance (228.8)

* * * * *

[For each country that offers Express Mail International merchandise insurance, replace the fee table to read as follows (noting that there is no fee for an insured amount not over $200) up to the applicable maximum amount available for each country:]

Insured amount not over | Fee | Insured amount not over | Fee
$200 | No Fee | For insurance coverage above $2,000, add $1.50 for each $500 or fraction thereof, up to a maximum of $5,000 per shipment.
500 | 2.35
1,000 | 3.85
1,500 | 5.35
2,000 | 6.85 | $5,000 max | $15.85

* * * * *

[After the “First-Class Mail International (240)” section, insert a new section for First-Class Package International Service for each country except for North Korea and Somalia to read as follows. For each country, use the same price group indicated by the “[x]” below that is currently used for First-Class Mail International service. For North Korea and Somalia insert only the title, and the words “Not Available.”]

First-Class Package International Service (250) Price Group x

For the prices and maximum weights for packages (small packets), see Notice 123, Price List.

Size Limits

Packages (Small Packets): See 251.212 and 251.213

* * * * *

Extra Services

* * * * *

International Postal Money Order (371)

[For each country that offers international postal money orders, revise the fee (which is on the “Maximum Amount Available” line) to read as follows:]

Fee: $4.50

[Revise the money order inquiry fee to read as follows:]

Fee: $5.75

* * * * *

We will publish an appropriate amendment to 39 CFR Part 20 to reflect these changes.

Stanley F. Mires,
Attorney, Legal Policy & Legislative Advice.

[FR Doc. 2012-25994 Filed 10-22-12; 8:45 am]

BILLING CODE 7710-12-P